DEPARTMENT OF EDUCATION

[CFDA No. 84.184A]

Grants To Reduce Alcohol Abuse; Notice Inviting Applications for New Awards for Fiscal Year (FY) 2002

Purpose of Program: The purpose of this program is to provide grants to local educational agencies (LEAs) to develop and implement innovative and effective alcohol abuse prevention programs for secondary school students.

Eligible Applicants: LEAs.

Applications Available: May 29, 2002.

Deadline for Transmittal of Applications: July 8, 2002.

Deadline for Intergovernmental Review: September 6, 2002.

Estimated Available Funds: $23,250,000.

Estimated Range of Awards: $250,000-$750,000.

Estimated Average Size of Awards: $500,000.

Estimated Number of Awards: 47.

Project Period: Up to 36 months.

Note: The Department is not bound by any estimates in this notice.

Applicable Regulations: The Education Department General Administrative Regulations (EDGAR) in 34 CFR parts 75, 77, 79, 80, 81, 82, 85, 97, 98 and 99.

Statutory Priority: Under the Elementary and Secondary Education Act, as amended, Title IV, Part A, Subpart 2, Section 4129, this grant competition solicits applications for projects to develop and implement innovative and effective alcohol abuse prevention programs for secondary school students. We will consider only applications that meet this statutory priority.

Supplementary Information: In making awards under this grant program, we will reserve up to 25 percent of the available funds for rural and low-income LEAs.

Contingent upon the availability of funds, we may make additional awards in FY 2003 from the rank-ordered list of non-funded applications from this competition.

Definitions

(1)“Rural and low-income local educational agency” is an LEA: (a) That is designated with a locale code of 6, 7, or 8, as determined by the Department's National Center for Education Statistics (NCES); and (b) in which 20 percent or more of the children ages 5 through 17 years served by the LEA are from families with incomes below the poverty line.

In order to determine its locale code, an LEA should use the information provided by NCES at: www.ed.gov/offices/OESE/SDFS/grants.

For purposes of this competition, locale codes of 6, 7 and 8 are described as follows: (1) Locale code 6: a large town (an incorporated place or a Census-designated place (CDP) with a population of at least 25,000 and located outside a consolidated metropolitan statistical area (CMSA) or metropolitan statistical area (MSA)); (2) locale code 7: a small town (an incorporated place or CDP with a population between 2,500 and 24,999 and located outside a CMSA or MSA); or (3) locale code 8: any incorporated place, CDP, or non-place territory designated as rural by the U.S. Bureau of the Census.

In the case where there are missing data or no data in the NCES table to determine the locale code, applicants may substitute certification by the State educational agency that the LEA is located in an area defined as rural by a governmental agency of the State.

In the case where there are missing data or no data in the NCES table to determine the low-income status of the LEA, applicants may substitute evidence that 20 percent or more of the children ages 5 through 17 years served by the LEA are from families with incomes below the poverty line.

(2) “Secondary school” means a nonprofit institutional day or residential school, including a public secondary charter school, that provides secondary education, as determined under State law, except that the term does not include any education beyond grade 12.

Other Requirements

Application Requirements

LEAs submitting an application under this program must:

(1) Describe the activities to be carried out under the grant;

(2) Provide an assurance that such activities will include one or more of the proven strategies for reducing underage alcohol abuse as determined by the Substance Abuse and Mental Health Services Administration, whose evidence of effectiveness includes scientifically based research (a list is provided in the application package); and

(3) Explain how activities to be carried out under the grant that are not described in (2) of this section will be effective in reducing underage alcohol abuse, including references to the past effectiveness of such activities.

Post-Award Requirements

LEAs receiving a grant under this program must:

(1) Submit an annual report concerning the effectiveness of the programs and activities funded under the grant;

(2) Participate in any technical assistance meetings required by the Department; and

(3) Use a qualified evaluator to design and implement an evaluation of the project using outcomes-based (summative) performance indicators related to behavioral change and process (formative) measures that assess and document the strategies used.

Participation by Private School Children and Teachers

LEAs that receive a grant are required to provide for the equitable participation of eligible private school children and their teachers or other educational personnel. In order to ensure that grant program activities address the needs of private school children, timely and meaningful consultation with appropriate private school officials must occur during the design and development of the program. Administrative direction and control over grant funds must remain with the grantee.

Maintenance of Effort

LEAs may receive a grant only if the State educational agency finds that the combined fiscal effort per student or the aggregate expenditures of the agency and the State with respect to the provision of free public education by the agency for the preceding fiscal year was not less than 90 percent of the combined fiscal effort or aggregate expenditures for the second preceding fiscal year.

Selection Criteria

Applications submitted under this competition will be reviewed using one of two sets of selection criteria in order to respond to a statutory requirement to streamline the application process for rural and low-income LEAs. The first set of criteria may be used by any applicant. The second set may be used only by rural and low-income applicants. Applications will be reviewed and scored separately according to the selection criteria the applicant chooses. Applications using the rural and low-income selection criteria that do not meet the definition for a rural and low income LEA will not be read. The maximum score for all of these criteria is 100 points.

Selection Criteria for Non-Rural, Non-Low-Income LEAs

(1) Need for the Project (20 Points)

In determining the need for the proposed project the following factor is considered: The magnitude or severity of the problem to be addressed by the proposed project.

(2) Quality of the Project Design (50 Points)

In determining the quality of the design of the proposed project, the following factors are considered:

(i) The extent to which the design of the program reflects up-to-date knowledge from research and effective practice.

(ii) The extent to which the design of the proposed project is appropriate to, and will successfully address, the needs of the target population or other identified needs.

(iii) The extent to which the goals, objectives, and outcomes to be achieved by the proposed project are clearly specified and measurable.

(3) Quality of the Project Evaluation (30 Points)

In determining the quality of the evaluation, the following factors are considered: (i) The extent to which the methods of evaluation include the use of objective performance measures that are clearly related to the intended outcomes of the project and will produce quantitative and qualitative data to the extent possible.

(ii) The extent to which the methods of evaluation will provide performance feedback and permit periodic assessment of progress toward achieving intended outcomes.

(iii) The extent to which the methods of evaluation are thorough, feasible, and appropriate to the goals, objectives, and outcomes of the proposed project.

Selection Criteria for Rural and Low-Income LEAs

(1) Need for the Project (20 Points)

In determining the need for the proposed project the following factor is considered: The magnitude or severity of the problem to be addressed by the proposed project.

(2) Quality of the Project Design (50 Points)

In determining the quality of the design of the proposed project, the following factor is considered: The extent to which the design of the program reflects up-to-date knowledge from research and effective practice.

(3) Quality of the Project Evaluation (30 Points)

In determining the quality of the evaluation, the following factor is considered: The extent to which the methods of evaluation include the use of objective performance measures that are clearly related to the intended outcomes of the project and will produce quantitative and qualitative data to the extent possible.

Waiver of Proposed RuleMaking

Under the Administrative Procedure Act (5 U.S.C. 553), the Department generally offers interested parties the opportunity to comment on a proposed priority and selection criteria. Section 437(d)(1) of the General Education Provision Act, however, exempts from this requirement rules that apply to the first competition under a new or substantially revised program. This is the first competition under the Grants to Reduce Alcohol Abuse program. These requirements will apply to the FY 2002 grant competition only.

For Applications and Other Information Contact

Copies of the application for this competition are available from EDPubs at 1-877-4EDPubs. The complete application package is also available on-line via Internet at: www.ed.gov/offices/OESE/SDFS. For all other questions please contact Ann Weinheimer, U.S. Department of Education, 400 Maryland Avenue, SW—Room 3E330, Washington, DC 20202-6123. Telephone: (202) 708-5939, e-mail address: Ann.Weinheimer@ed.gov.

If you use a telecommunications device for the deaf (TDD), you may call the Federal Information Relay Service (FIRS) at 1-800-877-8339.

Individuals with disabilities may obtain this document in an alternative format (e.g., Braille, large print, audiotape, or computer diskette) on request to the contact person listed under For Applications and Further Information Contact. However, the Department is not able to reproduce in an alternative format the standard forms included in the application package.

Pilot Project for Electronic Submission of Applications

In FY 2002, the U.S. Department of Education is continuing to expand its pilot project of electronic submission of applications to include additional formula grant programs and additional discretionary grant competitions. The Grants to Reduce Alcohol Abuse program is one of the programs included in the pilot project. If you are an applicant under this grant competition, you may submit your application in either electronic or paper format.

The pilot project involves the use of the Electronic Grant Application System (e-APPLICATION, formerly e-GAPS) portion of the Grant Administration and Payment System (GAPS). We request your participation in this pilot project. We will continue to evaluate its success and solicit suggestions for improvement.

If you participate in this e-APPLICATION pilot, please note the following:

—Your participation is voluntary.

—You will not receive any additional point value or penalty because you submit a grant application in electronic or paper format.

—You can submit all documents electronically, including the Application for Federal Assistance (ED 424), Budget Information—Non-Construction Programs, (ED 524), and all necessary assurances and certifications.

—Within three working days of submitting your electronic application, fax a signed copy of the Application for Federal Assistance (ED 424) to the Application Control Center after following these steps:

1. Print ED 424 from the e-Application system.

2. Make sure that the institution's Authorized Representative signs this form.

3. Before faxing this form, submit your electronic application via the e-APPLICATION system. You will receive an automatic acknowledgement, which will include a PR/Award number (an identifying number unique to your application).

4. Place the PR/Award number in the upper right corner of the ED 424.

5. Fax ED 424 to the Application Control Center at (202) 260-1349.

We may request that you give us original signatures on all other forms at a later date.

You may access the electronic application for Grants to Reduce Alcohol Abuse Program at: http://e-grants.ed.gov.

We have included additional information about the e-APPLICATION pilot project (see Parity Guidelines between Paper and Electronic Applications) in the application package.

Electronic Access to This Document

You may view this document, as well as all other Department of Education documents published in the Federal Register, in text or Adobe Portable Document Format (PDF) on the Internet at the following site: http://www.ed.gov/legislation/FedRegister.

To use PDF, you must have the Adobe Acrobat Reader, which is available free at this site. If you have questions about using PDF, call the U.S. Government Printing Office (GPO); toll free, at 1-888-293-6498; or in the Washington, DC area at (202) 512-1530.

Note: The official version of this document is the document published in the Federal Register. Free Internet access to the official edition of the Federal Register and the Code of Federal Regulations is available on GPO Access at: http://www.access.gpo.gov/nara/index.html.

(Catalog of Federal Domestic Assistance Number 84.184A, Grants to Reduce Alcohol Abuse)

Program Authority: 20 U.S.C. 7139.

Dated: May 24, 2002.
Susan B. Neuman,
Assistant Secretary for Elementary and Secondary Education.

[FR Doc. 02-13572 Filed 5-29-02; 8:45 am]

BILLING CODE 4000-01-P